DEPARTMENT OF ENERGY

Federal Energy Regulatory Commission

[Project No. 2335-039]

Brookfield White Pine Hydro LLC; Notice of Application Tendered for Filing With the Commission and Establishing Procedural Schedule for Licensing and Deadline for Submission of Final Amendments

Take notice that the following hydroelectric application has been filed with the Commission and is available for public inspection.

a. Type of Application: New Major License.

b. Project No.: 2335-039.

c. Date Filed: December 11, 2015.

d. Applicant: Brookfield White Pine Hydro LLC (White Pine Hydro).

e. Name of Project: Williams Hydroelectric Project (Williams Project).

f. Location: The existing project is located on the Kennebec River in Somerset County, Maine. The project does not occupy federal lands.

g. Filed Pursuant to: Federal Power Act, 16 U.S.C. 791(a)-825(r).

h. Applicant Contact: Ms. Kelly Maloney, Manager of Licensing and Compliance, Brookfield White Pine Hydro LLC, 150 Main Street, Lewiston, ME 04240; Telephone: (207) 755-5606.

i. FERC Contact: Amy Chang, (202) 502-8250 or amy.chang@ferc.gov.

j. This application is not ready for environmental analysis at this time.

k. The Project Description: The Williams Project has a total installed capacity of 13-megawatts (MW). The project's average annual generation is 96,731 megawatt-hours. The power generated by the project is sold on the open market into the regional grid.

The existing project consists of: (a) A 894.7-foot-long, 45.0-foot-high dam that includes: (i) A 202-foot-long, 15-foot-high east earth embankment section with a concrete core wall; (ii) a 244-foot-long, 32-foot-high stone masonry and concrete spillway section at the west end of the east earth embankment section with six 32.5-foot-wide, 20.5-foot-high Tainter gates; (iii) a 71.3-foot-long, 19.5-foot-high stone masonry and concrete abutment section at the west end of the spillway section; (iv) a 203.3-foot-long, 26.5-foot-high stone masonry and concrete stanchion bay section at the west end of the abutment section with two 65.9-foot-wide, 17.5-foot-high and one 46.8-foot-wide, 17.5-foot-high stanchion bays; (v) a 27-foot-long bulkhead section at the west end of the stanchion bay section with a 20.5-foot-wide, 7.0-foot-high surface weir gate and a 6.0-foot-wide, 12.3-foot-high Tainter gate at the upstream end of a steel-lined sluiceway; (vi) a 95.5-foot-wide intake and powerhouse section at the west end of the bulkhead section that varies in height from 45.5 feet to 49.4 feet and includes four headgates and two double-bay trashracks with 3.5-inch clear-bar spacing; and (vii) a 51.6-foot-long, 10.5-foot-high concrete cut-off wall at the west end of the intake and powerhouse section; (b) a 400-acre impoundment with a gross storage volume of 4,575 acre-feet and a useable storage volume of 2,065 acre-feet at a normal maximum elevation of 320 feet National Geodetic Vertical Datum; (c) a 40.5-foot-wide, 105.5-foot-long concrete powerhouse that is integral with the dam and contains two turbine-generator units rated at 6 and 7 MW; (d) a 6,000-foot-long excavated tailrace that varies from 150 to 175 feet wide; (e) a 200-foot-long generator lead and a 310-foot-long generator lead that connect the turbine-generator units to the regional grid; and (f) appurtenant facilities.

The Williams Project operates in a store-and-release mode where the impoundment level is fluctuated up to six feet daily to regulate downstream flow and meet peak demands for hydroelectric generation. The existing license requires an instantaneous minimum flow of 1,360 cubic feet per second, or inflow (whichever is less), in the tailrace. White Pine Hydro proposes to install an upstream eel passage facility, improve a canoe portage, and improve angler access. White Pine Hydro also proposes to remove 375.5 acres of land and water from the existing project boundary because it does not serve a project purpose.

l. Locations of the Application: A copy of the application is available for review at the Commission in the Public Reference Room or may be viewed on the Commission's Web site at http://www.ferc.gov using the “eLibrary” link. Enter the docket number excluding the last three digits in the docket number field to access the document. For assistance, please contact FERC Online Support at FERCOnlineSupport@ferc.gov, (866) 208-3676 (toll free), or (202) 502-8659 (TTY). A copy is also available for inspection and reproduction at the address in item (h) above.

m. You may also register online at http://www.ferc.gov/docs-filing/esubscription.asp to be notified via email of new filings and issuances related to this or other pending projects. For assistance, contact FERC Online Support.

n. Procedural Schedule:

The application will be processed according to the following preliminary Hydro Licensing Schedule. Revisions to the schedule may be made as appropriate.

Milestone | Target Date
Notice of Acceptance/Notice of Ready for Environmental Analysis | February 2016.
Filing of recommendations, preliminary terms and conditions, and fishway prescriptions | April 2016.
Commission issues Non-Draft Environmental Assessment (EA) | September 2016.
Comments on EA | October 2016.
Modified terms and conditions | December 2016.

o. Final amendments to the application must be filed with the Commission no later than 30 days from the issuance date of the notice of ready for environmental analysis.

Dated: December 17, 2015.
Nathaniel J. Davis, Sr.,
Deputy Secretary.

[FR Doc. 2015-32271 Filed 12-22-15; 8:45 am]

BILLING CODE 6717-01-P